DEPARTMENT OF DEFENSE

Air Force

Notice of Intent To Perform an Environmental Analysis for the Removal of Used Depleted Uranium Targets From Nevada Test and Training Range

AGENCY: United States Air Force, Air Combat Command.

ACTION: Notice of intent to prepare an Environmental Assessment (EA) for the Removal of Used Depleted Uranium Targets from the Nevada Test And Training Range (NTTR).

SUMMARY: The United States Air Force is issuing this Notice of intent (NOI) to announce that it is conducting an Environmental Assessment (EA) to describe the proposed action for removal of used depleted uranium (DU) targets used by A-10 aircraft firing the 30-Millimeter PGU-14/B API Armor Piercing Incendiary round containing sub-caliber high density DU penetrators from the Nevada Test and Training Range (NTTR). This NOI describes the Air Force's proposed scoping process and identifies the Air Force's point of contact.

The proposed EA will be prepared in compliance with the National Environmental Policy Act (NEPA) of 1969 (42 U.S.C. 4321-4347), the Council on Environmental Quality NEPA Regulations (40 CFR 1500-1508); and the Air Force's Environmental Impact Analysis Process (EIAP) (Air Force Instruction 32-7061 as promulgated at 32 CFR 989) to determine the potential environmental impacts of removing targets formerly used by A-10 aircraft for DU testing and training at the NTTR.

As part of the proposal, the Air Force will analyze various disposal alternatives for DU contaminated targets and debris currently located in the 60-Series Ranges (Target 63-10) in the Southwest area of NTTR. Because the targets and debris are in various conditions and have varied levels of contamination the Air Force requires flexibility in considering alternatives to dismantle, transport, and dispose/reuse the targets. The targets to be disposed fall into two basic categories: (1) Targets that can be decontaminated because the DU exists as surface contamination or the DU penetrator remains in the entry hole; and (2) targets that can not be decontaminated because the DU has fused into large areas of the target and it no longer qualifies as a usable target.

DATES: The Air Force will conduct a series of scoping meetings to receive public input on alternatives, concerns, and issues to be addressed in the EA and to solicit public input concerning the scope of the proposed action and alternatives. The schedule and locations of the scoping meetings are as follows:

March 23, 2004, 6 p.m.-8 p.m. Sunrise Library, 5400 Harris Ave., Las Vegas, Nevada

March 24, 2004, 6 p.m.-8 p.m. Indian Spring Community Center, 719 West Gretta Lane, Indian Springs, Nevada

March 25, 2004, 6 p.m.-8 p.m. Bob Ruud Community Center, Main Hall, 150 North Highway 160, Pahrump, Nevada

The Air Force will accept comments at any time during the environmental analysis process. However, to ensure the Air Force considers relevant scoping issues in a timely fashion, all comments should be forwarded to the address below, no later than April 20, 2004. If during the preparation of the EA, the Air Force concludes an Environmental Impact Statement (EIS) is warranted, comments received during this scoping period will be considered in the preparation of the EIS.

FOR FURTHER INFORMATION CONTACT: Ms. Sheryl Parker, HQ ACC/CEVP, 129 Andrews St., Suite 102, Langley AFB, VA 23665-2769, (757) 764-9334

Pamela Fitzgerald,
Air Force Federal Register Liaison Officer.

[FR Doc. 04-5131 Filed 3-5-04; 8:45 am]

BILLING CODE 5001-05-P